DEPARTMENT OF THE INTERIOR

Bureau of Indian Affairs

[245A2100DD/AAKC001030/A0A501010.999900]

Indian Gaming; Approval of Tribal-State Class III Gaming Compact Amendment Between the Kalispel Indian Community of the Kalispel Reservation and the State of Washington

AGENCY: Bureau of Indian Affairs, Interior.

ACTION: Notice.

SUMMARY: This notice publishes the approval of the Fifth Amendment to the Tribal-State Compact for Class III Gaming between the Kalispel Indian Community of the Kalispel Reservation and the State of Washington.

DATES: The Amendment takes effect on February 14, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: Under Section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment authorizes the Tribe to offer Electronic Table Games, as well as extend credit, at the Tribe's class III gaming facilities. Additionally, the Amendment establishes new upper limitations on certain wagers, gaming stations numbers, and player terminals, as well as increasing contributions to problem gaming resources and charitable donations while reducing payments to local mitigation funds. The Amendment is approved.

Bryan Newland,
Assistant Secretary—Indian Affairs.

[FR Doc. 2024-03012 Filed 2-13-24; 8:45 am]

BILLING CODE 4337-15-P